DEPARTMENT OF AGRICULTURE

Animal and Plant Health Inspection Service

[Docket No. APHIS-2006-0022]

Availability of Environmental Assessment for a Proposed Field Trial of Genetically Engineered Bahiagrass

AGENCY: Animal and Plant Health Inspection Service, USDA.

ACTION: Notice of availability and request for comments.

SUMMARY: We are advising the public that an environmental assessment has been prepared for a proposed field trial using two transgenic grass lines. The trial consists of Argentine bahiagrass plants that are genetically engineered to express resistance to the herbicide glufosinate and resistance to the antibiotic kanamycin. Each of 4 sets of 12 genetically engineered bahiagrass plants will be encircled with a ring of several untransformed cultivars of bahiagrass. The purpose of the field trial is to study the likelihood of hybrid formation as a result of pollen movement from the transgenic plants to the nontransgenic plants. Data gained from this field experiment will also be used to evaluate current confinement practices for this species of transgenic grass. The environmental assessment is available to the public for review and comment.

DATES: We will consider all comments that we receive on or before April 6, 2006.

ADDRESSES: You may submit comments by either of the following methods:

• Federal eRulemaking Portal: Go to http://www.regulations.gov and, in the “Search for Open Regulations” box, select “Animal and Plant Health Inspection Service” from the agency drop-down menu, then click on “Submit.” In the Docket ID column, select APHIS-2006-0022 to submit or view public comments and to view supporting and related materials available electronically. After the close of the comment period, the docket can be viewed using the “Advanced Search” function in Regulations.gov.

• Postal Mail/Commercial Delivery: Please send four copies of your comment (an original and three copies) to Docket No. APHIS-2006-0022, Regulatory Analysis and Development, PPD, APHIS, Station 3A-03.8, 4700 River Road Unit 118, Riverdale, MD 20737-1238. Please state that your comment refers to Docket No. APHIS-2006-0022.

Reading Room: You may read the environmental assessment and any comments that we receive in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Patricia Beetham, Biotechnology Regulatory Services, APHIS, 4700 River Road Unit 147, Riverdale, MD 20737-1236; (301) 734-0664. To obtain copies of the environmental assessment, contact Ms. Ingrid Berlanger at (301) 734-4885; e-mail: Ingrid.E.Berlanger@aphis.usda.gov.

SUPPLEMENTARY INFORMATION: The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.” A permit must be obtained or a notification acknowledged before a regulated article may be introduced. The regulations set forth the permit application requirements and the notification procedures for the importation, interstate movement, or release into the environment of a regulated article.

On October 21, 2005, the Animal and Plant Health Inspection Service (APHIS) received a permit application (APHIS No. 05-294-02r) from the University of Florida in Marianna, FL, for a field trial using lines of transgenic Argentine bahiagrass. Permit application 05-294-02r describes two transgenic lines of Argentine bahiagrass, Paspalum notatum Flugge cv. Argentine:

• Line ‘B9' has been genetically engineered to express the phosphinothricin acetyl transferase (bar) gene from Streptomyces hygroscopicus, which confers resistance to glufosinate herbicides. Expression of this gene is controlled by the polyubiquitin (ubi) promoter, ubi 5′ flanking region and the ubi first intron sequences from Zea mays, and the 35S 3′ region from Cauliflower Mosaic Virus (CaMV).

• In addition to the gene sequences above, line ‘P' has also been genetically engineered to express the neomycin phosphotransferase gene (nptII) from Escherichia coli, which confers resistance to the antibiotic kanamycin. Expression of this gene is controlled by the enhanced 35S promoter from CaMV, heat shock protein 70 (HSP70) intron from Zea mays, and the 35S 3′ region from CaMV.

Constructs were inserted into the recipient organisms by microprojectile bombardment.

The subject transgenic grasses are considered regulated articles under the regulations in 7 CFR part 340 because they were created using donor sequences from plant pests. The purpose of this proposed introduction is for research on transgenic bahiagrass plants, particularly to investigate the frequency of cross-hybridization between transgenic Argentine bahiagrass with different bahiagrass cultivars under field conditions. Additionally, the data gathered during this study will be used to assess the confined status of this field release and refine the confinement conditions necessary for future releases of this grass species.

To provide the public with documentation of APHIS' review and analysis of any potential environmental impacts and plant pest risk associated with the proposed release of these transgenic grasses, an environmental assessment (EA) has been prepared. The EA was prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372). Copies of the EA are available from the individual listed under FOR FURTHER INFORMATION CONTACT.

Authority: 7 U.S.C. 7701-7772 and 7781-7786; 31 U.S.C. 9701; 7 CFR 2.22, 2.80, and 371.3.

Done in Washington, DC, this 1st day of March 2006.
Kevin Shea,
Acting Administrator, Animal and Plant Health Inspection Service.

[FR Doc. E6-3166 Filed 3-6-06; 8:45 am]

BILLING CODE 3410-34-P